ENVIRONMENTAL PROTECTION AGENCY

40 CFR Part 52

[EPA-R06-OAR-2006-0271; FRL-8491-4]

Approval and Promulgation of Air Quality Implementation Plans; Louisiana; Approval of 8-Hour Ozone Section 110(a)(1) Maintenance Plans for the Parishes of Beauregard, Grant, and St. Mary

AGENCY: Environmental Protection Agency (EPA).

ACTION: Direct final rule.

SUMMARY: EPA is approving revisions to the Louisiana State Implementation Plan (SIP) concerning the 8-hour ozone maintenance plans for the parishes of Beauregard, Grant, and St. Mary. On August 23, 2006, the State of Louisiana submitted separate SIP revisions containing 8-hour ozone maintenance plans for Beauregard and Grant Parishes, and on October 10, 2006, Louisiana submitted an 8-hour ozone maintenance plan for St. Mary Parish. These plans ensure the continued attainment of the 8-hour ozone National Ambient Air Quality Standard (NAAQS) through the year 2014. These maintenance plans meet the statutory and regulatory requirements, and are consistent with EPA's guidance. EPA is approving the revisions pursuant to section 110 of the Federal Clean Air Act (CAA).

DATES: This rule is effective on January 7, 2008 without further notice, unless EPA receives relevant adverse comment by December 6, 2007. If EPA receives such comment, EPA will publish a timely withdrawal in the Federal Register informing the public that this rule will not take effect.

ADDRESSES: Submit your comments, identified by Docket No. EPA-R06-OAR-2006-0271, by one of the following methods:

• Federal eRulemaking Portal: http://www.regulations.gov. Follow the on-line instructions for submitting comments.

• EPA Region 6 “Contact Us” Web site: http://epa.gov/region6/r6coment.htm. Please click on “6PD” (Multimedia) and select “Air” before submitting comments.

• E-mail: Mr. Guy Donaldson at donaldson.guy@epa.gov. Please also send a copy by email to the person listed in the FOR FURTHER INFORMATION CONTACT section below.

• Fax: Mr. Guy Donaldson, Chief, Air Planning Section (6PD-L), at fax number 214-665-7263.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Docket ID No. EPA-R06-OAR-2006-0271. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at 214-665-7253 to make an appointment. If possible, please make the appointment at least two working days in advance of your visit. There will be a 15 cent per page fee for making photocopies of documents. On the day of the visit, please check in at the EPA Region 6 reception area at 1445 Ross Avenue, Suite 700, Dallas, Texas.

The State submittal is also available for public inspection at the State Air Agency listed below during official business hours by appointment:

Louisiana Department of Environmental Quality, Public Records Center, Room 127, 602 N. Fifth Street, Baton Rouge, Louisiana 70821.

FOR FURTHER INFORMATION CONTACT: Ellen Belk, Air Planning Section (6PD-L), Environmental Protection Agency, Region 6, 1445 Ross Avenue, Suite 700, Dallas, Texas 75202-2733, telephone (214) 665-2164; fax number 214-665-7263; e-mail address belk.ellen@epa.gov.

SUPPLEMENTARY INFORMATION: Throughout this document, whenever “we” “us” or “our” is used, we mean the EPA.

Outline

I. Background

II. Analysis of the State's Submittals

III. The State of Louisiana's Request To Relax the Federal Reid Vapor Pressure Standard in Grant Parish

IV. Final Action

V. Statutory and Executive Order Reviews

I. Background

Under section 107 of the 1977 CAA, Louisiana's Beauregard, Grant, and St. Mary Parishes were designated as nonattainment areas because they did not meet the National Ambient Air Quality Standards (NAAQS) for 1-hour ozone (40 CFR 81.319). As required by section 110 of the CAA, the state of Louisiana submitted a SIP to EPA on December 10, 1979. This SIP was approved by EPA on October 29, 1981 (46 FR 53412). Under the 1990 CAA Amendments, the Beauregard, Grant, and St. Mary Parish nonattainment areas continued to be designated nonattainment for the 1-hour ozone NAAQS by operation of law since Louisiana had not yet collected the required three years of data necessary to petition for redesignation to attainment.

On December 12, 1994, Louisiana submitted a request to redesignate Beauregard, Grant, and St. Mary Parishes to attainment for the 1-hour ozone standard. At the same time, the State submitted the required ozone monitoring data and maintenance plan for each parish (each area includes only the one Parish) to ensure the areas would remain in attainment for 1-hour ozone for a period of 10 years. The maintenance plans submitted by Louisiana followed EPA guidance for limited maintenance areas, which provides for 1-hour ozone areas that have design values less than 85% of the applicable standard. In this case, the applicable standard was the 1-hour ozone standard of 0.12 parts per million (ppm). At the time of the redesignation request, the design values for Beauregard, Grant, and St. Mary Parishes were 0.106, 0.071, and 0.092 ppm, respectively. Since each of these values was at or below the 85% threshold of 0.106 ppm, EPA approved Louisiana's requests to redesignate Beauregard, Grant, and St. Mary Parishes to attainment for the 1-hour ozone standard and approved the Parishes' maintenance plans, on August 18, 1995 (60 FR 43020), with an effective date of October 17, 1995.

On April 30, 2004, EPA designated and classified areas for the new 8-hour ozone NAAQS (69 FR 23858), and published the final phase 1 rule for implementation of the 8-hour ozone NAAQS (69 FR 23951). Beauregard, Grant, and St. Mary Parishes were designated as unclassifiable/attainment for the 8-hour ozone standard, effective June 15, 2004. The three attainment areas consequently are required to submit a 10-year maintenance plan under section 110(a)(1) of the CAA and the Phase I rule. On May 20, 2005, EPA issued guidance providing information regarding how a state might fulfill the maintenance plan obligation established by the Act and the Phase I rule (Memorandum from Lydia N. Wegman to Air Division Directors, Maintenance Plan Guidance Document for Certain 8-hour Ozone Areas Under Section 110(a)(1) of Clean Air Act, May 20, 2005). This SIP revision satisfies the section 110(a)(1) CAA requirements for a plan that provides for implementation, maintenance, and enforcement of the 8-hour ozone NAAQS in the Beauregard, Grant, and St. Mary Parish 8-hour ozone unclassifiable/attainment areas.

On December 22, 2006, the United States Court of Appeals for the District of Columbia Circuit issued an opinion that vacated EPA's Phase 1 Implementation Rule for the 8-hour Ozone Standard. (South Coast Air Quality Management District. v. EPA, 472 F.3d 882 (D.C. Cir. 2006). Petitions for rehearing were filed with the Court, and on June 8, 2007, the Court modified the scope of the vacatur of the Phase I rule. The Court vacated those portions of the Rule that provide for regulation of 8-hour ozone nonattainment areas under Subpart 1 in lieu of Subpart 2 and that allow backsliding with respect to new source review, penalties, milestones, contingency plans, and motor vehicle emission budgets. Consequently, the Court's modified ruling does not alter any requirements under the Phase 1 8-hour ozone implementation rule for maintenance plans.

II. Analysis of the State's Submittals

On August 23, 2006, the State of Louisiana submitted separate SIP revisions containing 8-hour ozone maintenance plans for Beauregard and Grant Parishes, and on October 10, 2006, Louisiana submitted an 8-hour ozone maintenance plan for St. Mary Parish. (The August 23, 2006 submittal for Grant Parish superseded a previous one dated March 2006, and included substantive changes to the contingency plan section. The August 23, 2006 submittal for Grant Parish was preceded by a proposal in June 2006, and a public hearing July 25, 2006.) These August and October revisions provide 8-hour ozone maintenance plans for the three parishes named above, as required by section 110(a)(1) of the CAA and the provisions of EPA's Phase 1 Implementation Rule (see 40 CFR 51.905(a)(4)). The purpose of these plans is to ensure continued attainment and maintenance of the NAAQS for 8-hour ozone in Beauregard, Grant, and St. Mary Parishes.

In this action, EPA is approving the State's 8-hour ozone maintenance plans for the areas of Beauregard, Grant, and St. Mary Parishes because EPA finds that the LDEQ submittal meets the requirements of section 110(a)(1) of the CAA, EPA's rule, and is consistent with EPA's guidance. As required, these plans provide for continued attainment and maintenance of the 8-hour ozone NAAQS in the area for 10 years from the effective date of the area's designation as unclassifiable/attainment for the 8-hour ozone NAAQS, and include components illustrating how each Parish will continue in attainment of the 8-hour ozone NAAQS and contingency measures. Each of the section 110(a) (1) plan components is discussed below.

(a) Attainment Inventory. The LDEQ developed comprehensive inventories of VOC and NOX emissions from area, stationary, and mobile sources using 2002 as the base year to demonstrate maintenance of the 8-hour ozone NAAQS for Beauregard, Grant, and St. Mary Parishes. The year 2002 is an appropriate year for the LDEQ to base attainment level emissions because States may select any one of the three years on which the 8-hour attainment designation was based (2001, 2002, and 2003). The State's submittals contain the detailed inventory data and summaries by source category. The 2002 base year inventory is a good choice. Using the 2002 inventory as a base year reflects one of the years used for calculating the air quality design values on which the 8-hour ozone designation decisions were based. It also is one of the years in the 2002-2004 period used to establish baseline visibility levels for the regional haze program.

A practical reason for selecting 2002 as the base year emission inventory is that Section 110(a)(2)(B) of the CAA and the Consolidated Emissions Reporting Rule (67 FR 39602, June 10, 2002) require States to submit emissions inventories for all criteria pollutants and their precursors every three years, on a schedule that includes the emissions year 2002. The due date for the 2002 emissions inventory is established in the rule as June 2004. In accordance with these requirements, the State of Louisiana compiles a statewide EI for point sources on an annual basis. For stationary point sources, for Beauregard, Grant, and St. Mary Parishes, the LDEQ provided estimates for each commercial or industrial operation that emits 100 tons or more per year of VOC or NOX in Appendix A of each maintenance plan. Stationary non-point source data was provided by E.H. Pechan & Associates, Inc., through the Central Regional Air Planning Association (CENRAP) using the methodology in “Consolidation of Emissions Inventories”, section C, page 26. On-road mobile emissions of VOC and NOX were estimated using EPA's MOBILE6.2 motor vehicle emissions factor computer model. Non-road mobile emissions data were derived from the “Emission Inventory Development For Mobile Sources and Agricultural Dust Sources for the Central States” produced by Sonoma Technology, Inc. for CENRAP in October 2004 using EPA's NONROAD 2004 non-road mobile emissions computer model. EPA finds that the LDEQ prepared the 2002 base year emissions inventories for the three Parishes consistent with EPA's long-established guidance memoranda.

In projecting data for the attainment year 2014 inventory, LDEQ used several methods to project data from the base year 2002 to the years 2008, 2011, and 2014. These projected inventories were developed using EPA-approved technologies and methodologies. Point source and non-point source projections were derived from the Emissions Growth Analysis System version 4.0 (EGAS 4.0). Non-road mobile projections were derived from EGAS 4.0, as well as from the National Mobile Inventory Model.

The following tables provide VOC and NOX emissions data for the 2002 base attainment year inventory, as well as projected VOC and NOX emission inventory data for the years 2008, 2011, and 2014. Please see the Technical Support Document (TSD) for additional emissions inventory data including projections by source category for each parish.

Beauregard Parish VOC and NOX Emissions Inventory Baseline (2002) and Projections
(2008, 2011, and 2014)
Emissions | 2002 tons per day | 2008 tons per day | 2011 tons per day | 2014 tons per day
Total VOC | 13.91 | 13.96 | 13.96 | 14.02
Total NOX | 20.88 | 20.79 | 20.78 | 20.84

As shown in the table above, total VOC and total NOX emissions for Beauregard Parish are projected to remain nearly the same over the 10-year period of the maintenance plan.

Grant Parish VOC and NOX Emissions Inventory Baseline (2002) and Projections (2008, 2011, and 2014)
Emissions | 2002 tons per day | 2008 tons per day | 2011 tons per day | 2014 tons per day
Total VOC | 8.99 | 8.23 | 7.57 | 7.09
Total NOX | 5.73 | 5.13 | 4.82 | 4.58

As shown in the table above, total VOC and total NOX emissions for Grant Parish are projected to decrease somewhat over the 10-year period of the maintenance plan.

St. Mary Parish VOC and NOX Emissions Inventory Baseline (2002) and Projections
(2008, 2011, and 2014)
Emissions | 2002 tons per day | 2008 tons per day | 2011 tons per day | 2014 tons per day
Total VOC | 18.74 | 16.29 | 15.50 | 15.01
Total NOX | 37.10 | 37.79 | 38.43 | 39.15

Emission projections for future years in St. Mary Parish indicate a downward trend in VOC emissions through 2014. NOX emission projections through 2014 reflect an increase of 2.05 tons per day by the year 2014, or approximately 5%, from 37.10 to 39.15 tpd. This small projected increase which occurs over a 12-year period is a result of calculations for the point and non-point source emissions categories. Emissions from non-road mobile and on-road mobile sources are projected to decrease. In contrast, VOC emissions are projected to decrease by 3.73 tons per day, or approximately 20%, from 18.74 to 15.01 tpd. The projected 20% reduction in VOC emissions is expected to sufficiently offset the projected 5% increase in NOX emissions, enabling the area to continue to maintain the 8-hour ozone standard.

Please see the TSD for more information on EPA's analysis and review of the State's methodologies, modeling data and performance, etc. for developing the base and attainment year inventories. As shown in the tables above, the State has demonstrated that the future year 8-hour ozone emissions will be less than the 2002 base attainment year's emissions. The attainment inventories submitted by the LDEQ for these areas are consistent with the criteria as discussed in the EPA Maintenance Plan Guidance memo dated May 20, 2005. EPA finds that the future emissions levels in 2008, 2011 and 2014 are expected to be similar to or less than the emissions levels in 2002.

(b) Maintenance Demonstration. The primary purpose of a maintenance plan is to demonstrate how an area will continue to remain in compliance with the 8-hour ozone standard for the 10 year period following the effective date of designation as unclassifiable/attainment. The end projection year is 10 years from the effective date of the attainment designation, which for Beauregard, Grant, and St. Mary Parishes was June 15, 2004. Therefore, these plans must demonstrate attainment through 2014. As discussed in section (a) Attainment Inventory above, Louisiana has identified the level of ozone-forming emissions in Beauregard, Grant, and St. Mary Parishes that were consistent with attainment of the NAAQS for ozone in 2002. Louisiana has projected VOC and NOX emissions for the years 2008, 2011, and 2014 in Beauregard, Grant, and St. Mary Parishes and EPA finds that the future emissions levels in those years are expected to be similar or below the emissions levels in 2002. Please see the TSD for more information on EPA's review and evaluation of the State's 2008, 2011, and 2014 projected emissions inventories.

Louisiana relies on several air quality measures that will provide for additional 8-hour ozone emissions reductions in Beauregard, Grant, and St. Mary Parishes. These measures include the following, among others: (1) Implementation of EPA's National Rule for VOC Emission Standards for Automobile Refinish Coatings, Consumer Products, and Architectural Coatings, (2) enacting of specific requirements from EPA's Tier 2 Motor Vehicle Emission Standards, EPA's Heavy-Duty Engine and Vehicle Standards, as well as EPA's gasoline and highway diesel fuel sulfur control requirements, (3) EPA's required control of emissions from non-road diesel engines and fuels, and (4) implementation of the Federal Clean Air Interstate Rule (CAIR) (70 FR 25162). The purpose of these control measures is to reduce levels of 8-hour ozone, including the areas of Beauregard, Grant, and St. Mary Parishes.

As an additional demonstration of maintenance, Louisiana references the EPA modeling conducted for CAIR in the maintenance plan submittals. Louisiana is a state that must implement CAIR, and the EPA CAIR modeling indicates that all Louisiana parishes will be in attainment with the 8-hour ozone standard by 2010, with continued attainment projected through 2015. This analysis is consistent with the projections discussed above in (a) Attainment Inventory.

(c) Ambient Air Quality Monitoring. In May 2003, after a technical and statistical analysis, the Regional Office agreed with the State of Louisiana that the Ragley monitoring site in Beauregard Parish and the Bentley monitoring site in Grant Parish could be discontinued upon submittal of a revised maintenance plan, which turned out to be November 28, 2005 for Grant Parish and May 19, 2006 for Beauregard Parish. The Bentley site in Grant Parish, however, was destroyed by fire on August 13, 2005, before the end of the 2005 ozone season. Since there was not adequate time to establish a new monitor for the remainder of the 2005 ozone season, EPA calculated its 2005 design value with the available information as 73 ppb. (The ozone season in the State of Louisiana is from January to December for the Parishes discussed in this notice.) In the same May 2003 letter, after the completion of the technical and statistical analysis, the Regional Office agreed with the State that the Morgan City monitoring site in St. Mary Parish could be discontinued at the end of the 2003 ozone season. Nevertheless, the State of Louisiana has committed in its maintenance plans for Beauregard, Grant, and St. Mary Parishes to provide operation of an appropriate ozone monitoring network and to work with EPA in compliance with 40 CFR part 58 with regard to the continued adequacy of such a network, if EPA determines monitoring is needed.

The Ragley monitoring site in Beauregard Parish has monitored attainment with the 8-hour ozone standard since 1998 through 2005. The 8-hour ozone NAAQS is 0.08 parts per million based on the three-year average of the fourth-highest daily maximum 8-hour average ozone concentration measured at each monitor within an area. The standard is considered to be attained at 84 parts per billion (ppb). The three most recent 8-hour ozone design values for the Ragley site in Beauregard Parish are 73 ppb for 2003, 73 ppb for 2004, and 75 ppb for 2005. The Bentley monitoring site in Grant Parish has monitored attainment with the 8-hour ozone standard since 1998 through 2004. The most recent 8-hour ozone design values for the Bentley site in Grant Parish are 78 ppb for 2002, 74 ppb for 2003, 73 ppb for 2004, and 73 ppb for 2005. The design value for 2005 is calculated to be 73 ppb, based upon the 8 months and 12 days of available data.

In St. Mary Parish, the Morgan City monitoring site has monitored attainment with the 8-hour ozone standard since 2001 through 2005. The State did not discontinue the monitor after the end of the 2003 ozone season as allowed but continued to operate it through the 2005 ozone season. The three most recent 8-hour ozone design values for St. Mary Parish are 74 ppb for 2003, 73 ppb for 2004, and 76 ppb for 2005.

(d) Contingency Plan. The section 110(a) (1) maintenance plans include contingency provisions to correct promptly any violation of the NAAQS that occurs. The contingency indicator for the Beauregard, Grant, and St. Mary Parish maintenance plans is based on updates to the emission inventories. The triggering mechanism for activation of contingency measures is a ten percent or greater increase in emissions of either VOC or NOX based on the 2002 emissions inventory. In these maintenance plans, if contingency measures are triggered, LDEQ is committing to implement the measures as expeditiously as practicable, but no longer than 24 months following the trigger.

The following contingency measures are identified for implementation: (1) Lowering VOC RACT applicability thresholds for Stage 1 gasoline controls, (2) NOX controls on major sources (100 tpy and greater), (3) Emission offsets for permits (1.10 ratio for VOC and NOX), and (4) Other measures deemed appropriate at the time as a result of advances in control technologies. These contingency measures and schedules for implementation satisfy EPA's long-standing guidance on the requirements of section 110(a) (1) of Continued Attainment. Continued attainment of the 8-hour ozone NAAQS in the areas of Beauregard, Grant, and St. Mary Parishes will depend, in part, on the air quality measures discussed previously (see II. b) above). In addition, Louisiana commits to verify the 8-hour ozone status in each maintenance plan through annual and periodic evaluations of the emissions inventories. In the annual evaluations, Louisiana will review VOC and NOX emission data from stationary point sources. During the periodic evaluations (every three years), Louisiana will update the emissions inventory for all emissions source categories, and compare the updated emissions inventory data to the projected 2008, 2011 and 2014 attainment emissions inventories to verify continued attainment of the 8-hour ozone standard.

III. The State of Louisiana's Request To Relax the Federal Reid Vapor Pressure Standard in Grant Parish

The State of Louisiana has submitted a request to EPA to relax the federal Reid Vapor Pressure (RVP) standard from 7.8 psi to 9.0 psi in Grant Parish during the ozone control season (June 1 to September 15). The Grant Parish section 110(a) (1) maintenance plan provides a modeled analysis of emissions from on-road mobile sources, including a comparison of VOC emissions using both the 7.8 and 9.0 psi RVP gasoline, for the three projection years: 2008, 2011, and 2014. The following Table provides the data resulting from the State's analysis comparing projected VOC emissions in Grant Parish for an RVP of 7.8 psi and 9.0 psi.

Grant Parish: RVP Comparison Effect on VOC Emissions
Year | 7.8 psi RVP VOC (tpd) | 9.0 psi RVP VOC (tpd)
2002 | 1.27 | N/A
2008 | 0.80 | 0.90
2011 | 0.63 | 0.70
2014 | 0.52 | 0.57

The Table above shows that Grant Parish is projected to continue to attain the 8-hour ozone standard with either a 7.8 or 9.0 psi RVP gasoline. The overall effect on VOC emissions from the difference between 7.8 and 9.0 psi RVP gasoline is 0.1 tpd or less for each of the three projection years. Further, each of the projected VOC emission inventories using 9.0 psi RVP gasoline is less than the baseline VOC emission inventory for the 2002 attainment year. Based upon this data, the Grant Parish 8-hour maintenance plan demonstrates that the use of either 7.8 or 9.0 psi RVP gasoline in the parish will allow the area to continue to meet the 8-hour ozone NAAQS.

EPA has promulgated regulations establishing the volatility standards. In a separate rulemaking, EPA will address the State's request.

IV. Final Action

Pursuant to section 110 of the Act, EPA is approving the 8-hour ozone maintenance plans for Beauregard, Grant, and St. Mary Parishes, which were submitted by LDEQ on August 23, 2006, August 23, 2006, and October 10, 2006, respectively, which ensure continued attainment of the 8-hour ozone NAAQS through the year 2014. We have evaluated the State's submittals and have determined that they meet the applicable requirements of the Clean Air Act and EPA regulations, and are consistent with EPA policy.

EPA is publishing this rule without prior proposal because we view this as a non-controversial amendment and anticipate no adverse comments. However, in the proposed rules section of this Federal Register publication, we are publishing a separate document that will serve as the proposal to approve the SIP revision if relevant adverse comments are received. This rule will be effective on January 7, 2008 without further notice unless we receive adverse comment by December 6, 2007. If we receive adverse comments, we will publish a timely withdrawal in the Federal Register informing the public that the rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

V. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 7, 2008. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Ozone, Nitrogen dioxide, Reporting and recordkeeping requirements, Volatile organic compounds.

Dated: October 26, 2007.
Lawrence E. Starfield,
Acting Regional Administrator, Region 6.

40 CFR part 52 is amended as follows:

PART 52—[AMENDED]

1. The authority citation for part 52 continues to read as follows:

Authority: 42 U.S.C. 7401 et seq.

Subpart T—Louisiana

2. In § 52.970, the table in paragraph (e) entitled, “EPA APPROVED LOUISIANA NONREGULATORY PROVISIONS AND QUASI-REGULATORY MEASURES”, is amended by adding three new entries to the end of the table as follows:

§ 52.970 Identification of plan.

* * * * *

(e) * * *

Epa-Approved Louisiana Nonregulatory Provisions and Quasi-Regulatory Measures
Name of SIP provision | Applicable geographic or nonattainment area | State submittal date/effective date | EPA approval date | Explanation
| * * * * * * *
8-Hour Ozone Section 110 Maintenance Plan | Beauregard Parish, LA | 8/23/06 | 11/06/07 [Insert FR page number where document begins]
8-Hour Ozone Section 110 Maintenance Plan | Grant Parish, LA | 8/23/06 | 11/06/07 [Insert FR page number where document begins]
8-Hour Ozone Section 110 Maintenance Plan | St. Mary Parish, LA | 9/27/06 | 11/06/07 [Insert FR page number where document begins]

3. Section 52.975, entitled, “Redesignations and maintenance plans; ozone”, is amended by adding a new paragraph (h) as follows:

§ 52.975 Redesignations and maintenance plans; ozone.

* * * * *

(h) Approval. The Louisiana Department of Environmental Quality (LDEQ) submitted 8-hour ozone maintenance plans for the areas of Beauregard, Grant, and St. Mary Parishes on August 23, 2006, August 23, 2006, and October 10, 2006, respectively. The three areas are designated unclassifiable/attainment for the 8-hour ozone standard. EPA determined these requests for Beauregard, Grant, and St. Mary Parishes were complete on October 9, 2006, October 9, 2006, and November 30, 2006, respectively. The maintenance plans meet the requirements of section 110(a)(1) of the Clean Air Act, and are consistent with EPA's maintenance plan guidance document dated May 20, 2005. The EPA therefore approved the 8-hour ozone maintenance plans for the areas of Beauregard, Grant, and St. Mary parishes on November 6, 2007.

* * * * *

[FR Doc. E7-21687 Filed 11-5-07; 8:45 am]

BILLING CODE 6560-50-P